DEPARTMENT OF EDUCATION

Applications for New Awards: Technology and Media Services for Individuals With Disabilities—Models Promoting Young Children's Use of Assistive Technology

AGENCY: Office of Special Education and Rehabilitative Services, Department of Education.

ACTION: Notice.

Overview Information: Technology and Media Services for Individuals with Disabilities—Models Promoting Young Children's Use of Assistive Technology; Notice inviting applications for new awards for fiscal year (FY) 2012.

Catalog of Federal Domestic Assistance (CFDA) Number: 84.327L.

DATES:

Applications Available: June 4, 2012.

Deadline for Transmittal of Applications: July 19, 2012.

Deadline for Intergovernmental Review: September 17, 2012.

Full Text of Announcement

I. Funding Opportunity Description

Purpose of Program: The purpose of the Technology and Media Services for Individuals with Disabilities program is to: (1) Improve results for students with disabilities by promoting the development, demonstration, and use of technology; (2) support educational media services activities designed to be of educational value in the classroom for students with disabilities; and (3) provide support for captioning and video description that is appropriate for use in the classroom.

Priority: In accordance with 34 CFR 75.105(b)(2)(v), this priority is from allowable activities specified in the statute (see sections 674(b)(1), 674(b)(2)(A) and 681(d) of the Individuals with Disabilities Education Act (IDEA) (20 U.S.C. 1400 et seq.)).

Absolute Priority: For FY 2012, this priority is an absolute priority. Under 34 CFR 75.105(c)(3), we consider only applications that meet this priority.

This priority is:

Technology and Media Services for Individuals with Disabilities—Models Promoting Young Children's Use of Assistive Technology.

Background:

The purpose of this priority is to support the establishment and operation of three model demonstration projects that will assist IDEA Part C and Part B preschool programs in implementing and evaluating models that promote and sustain promising practices for the effective use of assistive technology (AT) by infants, toddlers, and preschool children with disabilities and, as a result, improve their functional outcomes.

Almost 30 years of research and experience have demonstrated that “supporting the development and use of technology, including assistive technology devices and assistive technology services, to maximize accessibility for children with disabilities” can enhance the education and development of children with disabilities (section 601(c)(5)(H) of IDEA). Assistive technology devices (“AT devices”) ¹ and assistive technology services (“AT services”) ² (collectively, “AT devices and services”) help infants and toddlers with disabilities participate meaningfully in daily activities with their families and peers. They help preschool children with disabilities participate in accessing the general education curriculum. This increased participation in activities of daily living improves child development and learning (Campbell, Milbourne, Dugan, & Wilcox, 2006; Mistrett, 2004).

¹ IDEA defines “AT device” as “any item, piece of equipment, or product system, whether acquired commercially off the shelf, modified, or customized, that is used to increase, maintain, or improve functional capabilities of a child with a disability” and excludes a medical device that is surgically implanted or a replacement of such device (section 602(1) of IDEA).

² IDEA defines an “AT service” as “any service that directly assists a child with a disability in the selection, acquisition, or use of an assistive technology device” [section 602(2) of IDEA], and includes (1) evaluating the child's needs, (2) acquiring an AT device, (3) selecting, designing, fitting, customizing, adapting, applying, maintaining, repairing, or replacing AT devices, (4) coordinating and using therapies, intervention, or services with AT devices, (5) providing training or technical assistance for the child and, where appropriate, the child's family, and (6) providing training or technical assistance for professionals who serve, or are otherwise substantially involved in the major life functions of, the child (section 602(2)(A) through (F) of IDEA).

For infants, toddlers, and preschool children with disabilities, AT devices often consist of low-cost items and equipment that are purchased off the shelf and then adapted to improve the child's functional capabilities (e.g., electrical tape wrapped around a crayon to improve grip). AT devices also include high-cost, high-technology items that target a specific area of development (e.g., electronic communication for communication development and power mobility devices for motor and physical development).

Despite the potential benefits, the use of AT devices by infants and toddlers with disabilities who receive services under Part C of IDEA is limited. In a national survey of early intervention service (EIS) providers, 44 percent reported that either none or few of the children they served who needed AT were receiving AT devices or services (Wilcox, Guimond, Campbell, & Moore, 2006). In 2004,³ States reported including AT on only three percent of Individualized Family Service Plans (IFSPs) (Data Accountability Center, Part C Section 618 Data). AT was listed on only four percent of the service records of infants and toddlers with disabilities who participated in the National Early Intervention Longitudinal Study (Hebbeler & Zercher, 2003).

³ OSEP stopped collecting section 618 data on early intervention services in 2005.

Four major barriers contribute to the low rate at which infants, toddlers, and preschool children with disabilities and their families use AT devices and services. The barriers are the inadequacy or lack of: (1) Training for providers and families in the use of AT devices (Dugan, Campbell, and Wilcox, 2006; Dunst & Trivette, 2011; Milbourne and Campbell, 2008); (2) planning for the individual child's use of AT devices through “child-specific AT plans” ⁴ (Tots n Tech Institute, 2009, Resource Brief 5); (3) funding for costly, high-technology AT devices and services (Carlson & Ehrlich, 2006; Tots n Tech Institute, 2009, Resource Brief 3; Wilcox, Dugan, Campbell, & Guimond, 2006); and (4) programs to acquire, maintain, and reuse AT devices (Tots n Tech Institute, 2011, Resource Brief 7).

⁴ “Child-specific AT plans” are plans for embedding opportunities to use AT into daily activities and routines. These plans should be in formats that best meet the child's and family's needs.

In order to overcome these barriers, there is a need to develop implementation models that build on the work of previous Office of Special Education Programs (OSEP) investments (e.g., Tots n Tech, Steppingstones of Technology Innovation) to support AT use in early intervention and preschool programs. Implementation models can promote the effective use of AT by young children with disabilities by: (1) Developing effective training of EIS and preschool program providers and families in the use of AT devices by young children; (2) helping providers identify appropriate child-specific goals and outcomes in IFSPs and Individualized Education Programs (IEPs); (3) helping providers to develop child-specific AT plans from IFSP and IEP goals; (4) identifying funding sources for costly high-tech AT devices and services; and (5) developing coordinated programs to acquire, maintain, and reuse AT devices.

Increased use of AT devices and services may lead to improved functional outcomes for infants, toddlers, and preschool children with disabilities (Campbell, Milbourne, & Wilcox, 2008). The model demonstration projects funded under this priority would be required to address each of the four major barriers to these young children's use of AT by integrating effective practices and components into implementation models that support AT use and can be replicated by other IDEA Part C and Part B preschool programs.

Priority:

The purpose of this priority is to support the establishment and operation of three model demonstration projects that assist IDEA Part C and Part B preschool programs to implement and evaluate models that promote and sustain promising practices for the effective use of AT by infants, toddlers, and preschool children with disabilities and, as a result, improve their functional outcomes.

To be considered for funding under this priority, applicants must meet the application requirements contained in this priority. All projects funded under this priority also must meet the programmatic and administrative requirements specified in this priority.

Application Requirements. An applicant must include in its application—

(a) A description of the proposed model demonstration. The description must include all the components required under paragraph (a) of the Project Activities section;

(b) The supporting evidence for the model as a whole, including empirical support for the components that comprise the model;

(c) A logic model that depicts at a minimum, the goals, activities, outputs, and outcomes of the proposed project. A logic model communicates how a project will achieve its outcomes and provides a framework for both formative and summative evaluations of the project;

Note: The following Web sites provide more information on logic models: www.researchutilization.org/matrix/logicmodel_resource3c.html and www.tadnet.org/model_and_performance.

(d) A plan to implement the activities described in the Project Activities section of this priority;

(e) If the project maintains a Web site, relevant information about the model demonstration projects in a form that meets government or industry recognized standards for accessibility;

(f) Budget for attendance at the following:

(1) A one and one half-day kick-off meeting with the OSEP Project Officer to be held in Washington, DC, within four weeks after receipt of the award. At the initial kick-off meeting, OSEP personnel and the grantees will develop a project data coordination plan that includes common cross-project data collection instruments, a timeline for collecting data, and evaluation questions.

Note: Within 30 days of receipt of the award, a post-award teleconference must be held between the OSEP Project Officer and the grantee's Project Director or other authorized representative.

(2) A one-day annual planning meeting held in Washington, DC, with the OSEP Project Officer during years two through five of the project period.

(3) A three-day Project Directors' Conference in Washington, DC, during each year of the project period.

(4) Two two-day trips annually to attend Department briefings, Department-sponsored conferences, and other meetings, as requested by OSEP.

Project Activities. To meet the requirements of this priority, each project, at a minimum, must conduct the following activities:

(a) Refine the model proposed in the application. The model must include, at a minimum, the following components:

(1) Practice components, including—

(i) Methods to develop child-specific AT plans for infants, toddlers, and preschool children with disabilities;

(ii) Evidence-based training for providers in implementing child-specific AT plans for infants, toddlers, and preschool children with disabilities, including training in evaluating the AT needs of these children, selecting AT, using AT with these children, training families in implementing child-specific AT plans in all settings (e.g., home, community, etc.), maintaining and adapting AT devices, evaluating children's use of AT, and identifying funding options for AT;

(iii) Methods to develop effective local programs for re-use of AT by infants, toddlers, and preschool children with disabilities or methods to coordinate effective existing AT re-use programs; and

(iv) Methods to modify local policies and procedures to facilitate the use of AT with infants, toddlers, and preschool children with disabilities and their families.

(2) Implementation components, such as—

(i) Procedures for selecting ⁵ and recruiting three local programs (at least one must be an IDEA Part C program, and at least one must be an IDEA Part B preschool program) willing to participate in the proposed model demonstration project. The programs may be from different States. Successful applicants will determine the final programs in consultation with the OSEP Project Officer;

⁵ For factors to consider when selecting model demonstration sites, the applicant should refer to Assessing Sites for Model Demonstration: Lessons Learned for OSEP Grantees at http://mdcc.sri.com/documents/reports/MDCC_Site_Assessment_Brief_09-30-11.pdf. The document also contains a site assessment tool.

(ii) A description of the programs and the demographics of the populations served, and whether the programs are serving infants, toddlers, and preschool children with disabilities in rural or urban areas;

(iii) Strategies to identify and to allocate human resources among the project and program staff;

(iv) Approaches to initial and ongoing professional development, including coaching, for personnel involved in implementing the model;

(v) Methods for evaluating the quality and implementation of child-specific AT plans for infants, toddlers, and preschool children with disabilities in terms of improved child and family outcomes, quality and implementation of professional development, and the effectiveness of modifications to local policies, processes, and procedures;

(vi) Approaches to measuring the fidelity of the implementation of the model; and

(vii) Approaches to measuring the social validity of the model, i.e., the satisfaction of program staff, providers, and families with respect to the model processes and outcomes.

(3) Sustainability components, such as a plan for—

(i) Transferring over time the responsibility for project support to the personnel at the participating programs; and

(ii) Continuing opportunities for program staff to receive professional development after the project ends.

(b) Implement the model in the participating IDEA Part C and Part B preschool programs identified under paragraph (a) of this section. For purposes of this priority, these three sites are referred to as Programs A, B, and C. Program A will implement the project's model demonstration one year ahead of Programs B and C and will implement the model demonstration for a minimum of four years. Programs B and C will implement the project's model demonstration one year after Program A and will implement the model demonstration for a minimum of three years.

(c) In accordance with the project's logic model and data coordination plan for the funded projects, collect summative evaluation data on child and family outcomes as a result of AT use including, at a minimum—

(1) Changes in the positive social-emotional skills (including social relationships) of the infants, toddlers, and preschool children with disabilities served;

(2) Changes in the acquisition and use of knowledge by the infants, toddlers, and preschool children with disabilities served;

(3) Changes in the use of appropriate behavior to meet their needs by the infants, toddlers, and preschool children with disabilities served; and

(4) Changes in the ability of the families served to help their infants, toddlers, and preschool children with disabilities develop and learn.

(d) In accordance with the project's logic model and data collection plan for the funded projects, collect summative evaluation data (including estimates of the cost of implementing the model) on the program outcomes, including at a minimum:

(1) Changes to policies, procedures, or data collection systems in the programs and the effect of those changes on the program; and

(2) Changes to resource allocations in the programs.

(e) Implement a formative evaluation plan, consistent with the project's logic model and the data collection plan, to include periodic collection of child, family, and program data in addition to other largely formative data relating to fidelity of implementation, stakeholder acceptability, and descriptions of the site context. The plan must outline how these data will be reviewed by the project, when they will be reviewed, and how they will be used during the course of the project to adjust the model or its implementation in an effort to increase the model's usefulness, validity, generalizability, and potential for sustainability.

(f) Participate in discussions, facilitated by the OSEP-funded Model Demonstration Coordination Center (MDCC), with the three projects on the development of a data collection and coordination plan that includes standard evaluation questions and data collection instruments; a standard approach to the synthesis and analysis of data; acceptable variations for the measurement of implementation fidelity, model acceptability, and data reliability; and collaborative efforts to disseminate information. Projects must participate in the implementation of the data collection and coordination plan. The program data collected as part of the plan may or may not be the same as those initially proposed by the applicant, and these may include child and family measures, implementation measures (e.g., qualitative descriptions of activities), and site contextual data. Projects must be prepared to share data with the MDCC in the process of implementing the data collection and coordination plan. The projects must agree to cooperate with any Department-sponsored independent evaluation of the model demonstration by providing the Department or its contractor with administrative records on the children and families served.

Note: In support of its particular model demonstration, a project may propose to collect data that will not be collected by all projects and may analyze these data as proposed in the application.

(g) Initiate a process for carefully documenting the model's practice components, implementation processes, and implementation tools and guides sufficient to allow for replication of the model, should the model prove effective.

(h) Communicate and collaborate on an ongoing basis with Department-funded centers to share information on successful strategies and implementation challenges regarding AT use by infants, toddlers, and preschool children with disabilities and their families; provider and family training on AT; funding of AT; programs to reuse AT; and AT policies and procedures.

(i) Prior to developing any new product, submit a proposal for the product to the Technical Assistance Coordinating Center (TACC) for approval from the OSEP Project Officer. The development of new products should be consistent with the product definition and guidelines posted on the TACC Web site (www.tadnet.org).

(j) Maintain ongoing communication with the OSEP Project Officer and other projects funded under this priority through monthly phone conversations and email communication.

Note: The MDCC will provide support for monthly teleconferences with all projects to discuss cross-project activities.

References:

Campbell, P.H., Milbourne, S.A., Dugan, L., & Wilcox, M.J. (2006). A Review of Evidence on Practices for Teaching Young Children to Use Assistive Technology. Topics in Early Childhood Special Education, 26(1), 3-14.

Campbell, P.H., Milbourne, S.A., & Wilcox, M.J. (2008). Adaptation Interventions to Promote Participation in Natural Settings. Infants & Young Children, 21(2), 94-106.

Carlson, D., & Ehrich, N. (2006). Sources of Payment for Assistive Technology: Findings from a National Survey of Persons with Disabilities. Assistive Technology, 18, 77-86.

Data Accountability Center. (2004). Individuals with Disabilities Education Act (IDEA) Data: Data Tables for OSEP State Reported Data. Part C Early Intervention Services. Available from: www.ideadata.org/arc_toc7.asp#partcEIS.

Dugan, L., Campbell, P., & Wilcox, M. (2006). Making Decisions about Assistive Technology with Infants and Toddlers. Topics in Early Childhood Special Education, 26(1), 25-32.

Dunst, C.J. & Trivette, C.M. (2011). Evidence-Based Strategies for Training Adults to Use Assistive Technology and Adaptations (Research brief, Volume 5, No. 1). Tots n Tech Research Institute. Available from: http://tnt.asu.edu.

Hebbeler, K. & Zercher, C. (2003, October 13). NEILS: Service and Provider Characteristics and Expenditures. Paper presented at the 19th Annual Conference of the Division of Early Childhood (DEC), Washington, DC.

Milbourne, S., & Campbell, P. (2008). Report of Assistive Technology Training for Providers and Families of Children in Early Intervention (Research Brief, Volume 2, Number 1). Tots n Tech Research Institute. Available from: http://tnt.asu.edu.

Mistrett, S. (2004). Assistive Technology Helps Young Children with Disabilities Participate in Daily Activities. Technology in Action, 1, (4), 1-8.

The Tots n Tech Institute. (2009). Funding Assistive Technology (Resource Brief 3). Available from: http://tnt.asu.edu.

The Tots n Tech Institute. (2009). Using Assistive Technology with Infants and Toddlers (Resource Brief 5). Available from: http://tnt.asu.edu.

The Tots n Tech Institute. (2011). Assistive Technology Reuse (Resource Brief 7). Available from: http://tnt.asu.edu.

Wilcox, M. J., Dugan, L.M., Campbell, P.H., & Guimond, A. (2006). Recommended Practices and Parent Perspectives Regarding AT Use in Early Intervention. Journal of Special Education Technology, 21, 7-16.

Wilcox, M.J., Guimond, A., Campbell, P., Moore, H.W. (2006). Provider Perspectives on the Use of Assistive technology for Infants and Toddlers with Disabilities. Topics in Early Childhood Special Education, 26(1), 33-49.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to institutions of higher education only.

II. Award Information

Type of Award: Cooperative agreement.

Estimated Available Funds: $1,200,000.

Contingent upon the availability of funds and the quality of applications, we may make additional awards in FY 2013 from the list of unfunded applicants from this competition.

Estimated Range of Awards: $375,000 to $400,000.

Estimated Average Size of Award: $388,000.

Maximum Award: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 60 months.

III. Eligibility Information

Eligible Applicants: State educational agencies (SEAs); LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements:

(a) The projects funded under this competition must make positive efforts to employ, and advance in employment, qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: Education Publications Center (ED Pubs), U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.327L.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit; or if you apply other standards and exceed the equivalent of the page limit.

3. Submission Dates and Times:

Applications Available: June 4, 2012.

Deadline for Transmittal of Applications: July 19, 2012.

Applications for grants under this competition may be submitted electronically using the Grants.gov Apply site (Grants.gov), or in paper format by mail or hand delivery. For information (including dates and times) about how to submit your application electronically, or in paper format by mail or hand delivery, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: September 17, 2012.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications.

We are participating as a partner in the Governmentwide Grants.gov Apply site. The Models Promoting Young Children's Use of Assistive Technology competition, CFDA number 84.327L, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Models Promoting Young Children's Use of Assistive Technology competition at www.Grants.gov. You must search for the downloadable application package for this program by the CFDA number. Do not include the CFDA number's alpha suffix in your search (e.g., search for 84.327, not 84.327L).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.327L), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327L), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures are included in the application package and focus on the extent to which projects are of high quality, are relevant to improving outcomes of children with disabilities, and contribute to improving outcomes for children with disabilities. We will collect data on these measures from the project funded under this competition. The grantee will be required to report information on its project's performance in its final performance report to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Carmen Sanchez, U.S. Department of Education, 400 Maryland Avenue SW., Room 4057, Potomac Center Plaza (PCP), Washington, DC 20202-2600. Telephone: (202) 245-6595.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 29, 2012.
Alexa Posny,
Assistant Secretary for Special Education and Rehabilitative Services.

[FR Doc. 2012-13500 Filed 6-1-12; 8:45 am]

BILLING CODE 4000-01-P